DEPARTMENT OF LABOR

Employment and Training Administration

[TA-W-72,430]

Douglas Battery Manufacturing Co., Currently Known as Lexington Road Properties, Inc., Including On-Site Leased Workers From Winston Personnel Group, Aerotek and Debbie Staffing, Winston-Salem, NC; Amended Certification Regarding Eligibility To Apply for Worker Adjustment Assistance

In accordance with Section 223 of the Trade Act of 1974, as amended (“Act”), 19 U.S.C. 2273, the Department of Labor issued a Certification of Eligibility to Apply for Worker Adjustment Assistance on January 6, 2010, applicable to workers of Douglas Battery Manufacturing Co., including on-site leased workers from Winston Personnel Group, Aerotek, and Debbie Staffing, Winston-Salem, North Carolina. The notice was published in the Federal Register February 16, 2010 (75 FR 7036).

At the request of the State agency, the Department reviewed the certification for workers of the subject firm. The workers are engaged in the production of automotive and industrial batteries.

New information shows that in January 2010, Douglas Battery Manufacturing was sold and is currently known as Lexington Road Properties, Inc. Workers separated from employment at the subject firm had their wages reported under a separate unemployment insurance (UI) tax account under the name Lexington Road Properties, Inc.

Accordingly, the Department is amending this certification to properly reflect this matter.

The intent of the Department's certification is to include all workers of the subject firm who were adversely affected by increased imports of automotive and industrial batteries.

The amended notice applicable to TA-W-72,430 is hereby issued as follows:

All workers of Douglas Battery Manufacturing Co., currently known as Lexington Road Properties, Inc., including on-site leased workers from Winston Personnel Group, Aerotek and Debbie's Staffing, Winston-Salem, North Carolina, who became totally or partially separated from employment on or after September 8, 2008 through January 6, 2012, and all workers in the group threatened with total or partial separation from employment on date of certification through two years from the date of certification, are eligible to apply for adjustment assistance under Chapter 2 of Title II of the Trade Act of 1974, as amended.

Signed at Washington, DC, this 21st day of July 2010.
Del Min Amy Chen,
Certifying Officer, Division of Trade Adjustment Assistance.

[FR Doc. 2010-19385 Filed 8-5-10; 8:45 am]

BILLING CODE 4510-FN-P